DEPARTMENT OF THE INTERIOR

Fish and Wildlife Service

[FWS-R3-R-2008-N0323 ; 30136-1265-0000-S3]

Muscatatuck National Wildlife Refuge, Jackson, Jennings, and Monroe Counties, IN

AGENCY: Fish and Wildlife Service, Interior.

ACTION: Notice of availability: Draft comprehensive conservation plan and environmental assessment; request for comments.

SUMMARY: We, the U.S. Fish and Wildlife Service (Service), announce the availability of a draft comprehensive conservation plan (CCP) and draft environmental assessment (EA) for Muscatatuck National Wildlife Refuge (NWR) for public review and comment. In this draft CCP/EA, we describe how we propose to manage the refuge for the next 15 years.

DATES: To ensure consideration, we must receive your written comments by May 6, 2009. An open house style meeting will be held during the comment period to receive comments and provide information on the draft plan. Special mailings, newspaper articles, Internet postings, and other media announcements will inform people of the meetings and opportunities for written comments.

ADDRESSES: Send your comments or requests for more information by any of the following methods. You may also drop off comments in person at Muscatatuck NWR.

• Agency Web Site: View or download a copy of the document and comment at http://www.fws.gov/midwest/planning/Muscatatuck.

• E-mail: r3planning@fws.gov. Include “Muscatatuck Draft CCP/EA” in the subject line of the message.

• Fax: 812-522-6826.

• Mail: Attention: Refuge Manager, Muscatatuck National Wildlife Refuge, 12985 East U.S. Highway 50, Seymour, IN 47274-8518.

FOR FURTHER INFORMATION CONTACT: Marc Webber, 812-522-4352.

SUPPLEMENTARY INFORMATION:

Introduction

With this notice, we continue the CCP process for Muscatatuck NWR, which was started with the notice of intent we published in 72 FR 27587-27588, May 16, 2007. For more about the initial process and the history of this refuge, see that notice.

Muscatatuck NWR was approved by the Migratory Bird Conservation Commission and established in 1966 to provide duck breeding and migration habitat. The Refuge covers 7,802 acres, including the 78-acre `Restle' unit donated to the FWS located 45 miles northwest of the refuge. Muscatatuck is also responsible for nine Farm Service Agency (FSA) conservation easements in surrounding counties, totaling 130.5 acres.

Background

The CCP Process

The National Wildlife Refuge System Administration Act of 1966, as amended by the National Wildlife Refuge System Improvement Act of 1997 (16 U.S.C. 668dd-668ee), requires us to develop a comprehensive conservation plan for each national wildlife refuge. The purpose in developing a CCP is to provide refuge managers with a 15-year strategy for achieving refuge purposes and contributing toward the mission of the National Wildlife Refuge System, consistent with sound principles of fish and wildlife management, conservation, legal mandates, and our policies. In addition to outlining broad management direction on conserving wildlife and their habitats, plans identify wildlife-dependent recreational opportunities available to the public, including opportunities for hunting, fishing, wildlife observation, wildlife photography, and environmental education and interpretation.

CCP Alternatives and Our Preferred Alternative

Priority Issues

During the public scoping process, we, other stakeholders and partners, and the public identified several priority issues, which include habitat management, invasive species control, and demand for additional recreation opportunities and visitor services. To address these issues, we developed and evaluated the following alternatives during the planning process.

Alternative A: Current Management Direction and Activities (No Action)

The current management direction of Muscatatuck NWR would be maintained under this alternative. For NEPA purposes, this is referred to as the “No Action” alternative, a misnomer as some changes will occur over the next 15 years. Management includes conservation, restoration, and preservation but occurs opportunistically as budgets allow. Natural processes would play a large role in the transition and succession of habitats, with little active management. Farming and water management would continue in those areas where it currently exists. Some programs, especially environmental education and outreach, would see improvements only if budgets increase in the future.

Alternative B: Increased Restoration of Natural Processes; Maintain Focus on Priority General Public Uses

Under Alternative B, we will focus on natural processes and promote natural habitat succession on the refuge. Many of the constructed management areas (moist soil units, open waters, green-tree reservoirs, and agricultural areas) are restored to more natural or historic landscape conditions. Management will increase in the areas of forestry and invasive and pest species control, and the hunting seasons are expanded for most game animals. This alternative proposes a reduction in the number of trails and fishing areas to reduce disturbances to wildlife.

Alternative C: Balance Natural Processes and Constructed Management Units; Increased Focus on High Quality Priority General Public Uses (Preferred Alternative)

Under Alternative C, we will increase the Refuge's forest acreage and decrease the active management of some constructed management units. Former farmland areas are either forested or managed as open areas to increase the overall diversity of refuge habitat. Management will increase in the areas of forestry and invasive and pest species control, and hunting and fishing opportunities are expanded. The quality of wildlife observation, photography, and interpretation are all improved in this alternative.

Alternative D: Intensified Management of Constructed Management Units; Expanded Priority General Public Uses

Under Alternative D, we will increase both the Refuge's forest acreage and its active management of constructed management areas (moist soil units, open waters, green-tree reservoirs, and agricultural areas). Wildlife observation is enhanced by placing additional acreage in agricultural production and by maintaining open, non-forested areas. In this alternative, more active forest management and invasive and pest species control are proposed, hunting opportunities and seasons for most game animals are expanded, fishing opportunities are available at nearly all available waters, and the quality of wildlife observation, photography, and interpretation are all improved.

Public Meeting

We will give the public an opportunity to provide comments at a public meeting. You may obtain the schedule from the addresses listed in this notice (see addresses). You may also submit comments anytime during the comment period.

Public Availability of Comments

Before including your address, phone number, e-mail address, or other personal identifying information in your comment, you should know that your entire comment—including your personal identifying information—may be made publicly available at any time. While you may ask us in your comment to withhold your personal identifying information from public review, we cannot guarantee that we will be able to do so.

Dated: February 11, 2009.
Charles M. Wooley,
Acting Regional Director, U.S. Fish and Wildlife Service, Fort Snelling, Minnesota.

[FR Doc. E9-7482 Filed 4-2-09; 8:45 am]

BILLING CODE 4310-55-P